DEPARTMENT OF ENERGY

Federal Energy Regulatory Commission

[Project No. 3509-042]

Little Falls Hydroelectric Associates, LP; Notice of Application Tendered for Filing With The Commission and Establishing Procedural Schedule for Licensing and Deadline for Submission of Final Amendments

Take notice that the following hydroelectric application has been filed with the Commission and is available for public inspection.

a. Type of Application: New Major License.

b. Project No.: 3509-042.

c. Date Filed: August 31, 2021.

d. Applicant: Little Falls Hydroelectric Associates, LP.

e. Name of Project: Little Falls Hydroelectric Project (Little Falls Project).

f. Location: The existing project is located on the Mohawk River, in the City of Little Falls, Herkimer County, New York. The project does not occupy federal land.

g. Filed Pursuant to: Federal Power Act 16 U.S.C. 791 (a)-825 (r).

h. Applicant Contact: David H. Fox, Director, Licensing and Compliance, Little Falls Hydroelectric Associates, LP, Eagle Creek Renewable Energy, 7315 Wisconsin Avenue, Suite 1100W, Bethesda, MD 20814, email—david.fox@eaglecreekre.com; Jody J. Smet, Vice President, Regulatory Affairs, Little Falls Hydroelectric Associates, LP, Eagle Creek Renewable Energy, 7315 Wisconsin Avenue, Suite 1100W, Bethesda, MD 20814, email—jody.smet@eaglecreekre.com.

i. FERC Contact: Monir Chowdhury at (202) 502-6736 or email at monir.chowdhury@ferc.gov.

j. This application is not ready for environmental analysis at this time.

k. Project Description: The Little Falls Project consists of: (1) Two state-owned dams (i.e., North State Dam and South State Dam) joined by an island, and equipped with 1-foot-high flashboards and flow control gates, with a total length of 594 feet and a height of about 6.25 feet; (2) a reservoir with a storage capacity of 800 acre-feet at a normal surface elevation of 363.8 feet; ¹ (3) a 45-foot-wide, 300-foot-long navigation lock (Lock 17); (4) a 55-foot-wide, 73-foot-long concrete intake structure with two roller head gates to control flow through the intake; (5) two 14-foot-diameter, 90-foot-long steel penstocks; (6) a 65-foot-wide by 99-foot-long concrete powerhouse containing two-turbine-generator units each with a capacity of 6.8 megawatts; (7) two sets of 4.16-kilovolt (kV), 60-foot-long generator leads that run from the powerhouse to a switchyard containing a 4.16/46-kV transformer; (8) a 46-kV, 50-foot-long transmission line from the switchyard to a nearby interconnection point that connects the project with the National Grid; and (9) appurtenant facilities.

¹ All elevations refer to Barge Canal Datum which is 0.8 foot higher than elevations in National Geodetic Vertical Datum of 1929.

There are several structures inside the project boundary that are not considered part of the project: A flood gate structure owned by the New York State Canal Corporation to protect the canal during periods of high headwater; the Middle Dam, with sixty percent of the dam currently breached, located in the bypassed reach of the Mohawk River, and built as part of a hydropower plant that was decommissioned in 1962; and the Gilbert Dam located also in the bypassed reach approximately 700 feet upstream of the powerhouse to measure flow through the Mohawk River and to assure minimum flow conditions are met in the river.

l. In addition to publishing the full text of this document in the Federal Register, the Commission provides all interested individuals an opportunity to view and/or print the contents of this document and the full license application via the internet through the Commission's Home Page (www.ferc.gov) using the “eLibrary” link. At this time, the Commission has suspended access to the Commission's Public Access Room due to the proclamation declaring a National Emergency concerning the Novel Coronavirus Disease (COVID-19), issued by the President on March 13, 2020. For assistance, contact FERC at FERCOnlineSupport@ferc.gov or call toll-free, (886) 208-3676 or TTY, (202) 502-8659.

m. You may also register online at http://www.ferc.gov/docs-filing/esubscription.asp to be notified via email of new filings and issuances related to this or other pending projects. For assistance, contact FERC Online Support.

n. Procedural schedule: The application will be processed according to the following preliminary Hydro Licensing Schedule. Revisions to the schedule may be made as appropriate.

Milestone | Target date
Issue Deficiency Letter (if necessary) | September 2021.
Request Additional Information | October 2021.
Notice of Acceptance/Notice of Ready for Environmental Analysis | February 2022.

o. Final amendments to the application must be filed with the Commission no later than 30 days from the issuance date of the notice of ready for environmental analysis.

Dated: September 14, 2021.
Kimberly D. Bose,
Secretary.

[FR Doc. 2021-20271 Filed 9-17-21; 8:45 am]

BILLING CODE 6717-01-P